DEPARTMENT OF HEALTH AND HUMAN SERVICES

Centers For Disease Control and Prevention

[60Day-06-06AI]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-4766 or send comments to Seleda Perryman, CDC Assistant Reports Clearance Officer, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Metropolitan Atlanta Stillbirth Management Survey: Knowledge, Attitudes and Practice Patterns from Obstetricians, new collection, National Center on Birth Defects and Developmental Disabilities (NCBDDD), Centers for Disease Control and Prevention (CDC).

Background and Brief Description

The U.S. Congress House Report 108-792 (joint conference report for the Fiscal Year 2005 omnibus appropriations bill) provides specific funding to devise a comprehensive strategy for expanding existing birth defects surveillance systems to incorporate surveillance data on all intrauterine fetal deaths of 20 or more week's gestation into the Metropolitan Atlanta Congenital Defects Program (MACDP). Stillbirth is largely an understudied adverse pregnancy outcome even though it accounts for nearly one half of all perinatal mortality. There is currently no nationally accepted definition of what constitutes a stillbirth, and there are no universally recommended, standardized stillbirth evaluation protocols in use for the evaluation of fetal deaths. The proposed survey has been designed to evaluate and assess the knowledge, attitudes and practice management patterns of obstetricians in the metropolitan Atlanta area regarding stillbirths in general, as well as in their medical practice. This information will be used to identify prevailing deficiencies leading to incomplete and inaccurate reporting of data relative to stillbirths, and to develop targeted awareness and educational strategies for participating MACDP facilities. Ongoing, accurate and reliable population-based registries of stillbirths are essential for conducting epidemiologic studies on the causes of and risk factors for this pregnancy outcome. This survey will be mailed to randomly selected obstetricians whose practices serve residents of the 5 counties comprising metropolitan Atlanta. This survey will be conducted once and will take approximately 2-3 months to collect the data. NCBDDD is requesting OMB clearance for 1 (one) year. There is no cost to the survey respondents except for the time necessary to complete the survey.

Estimated Annualized Burden Table
Respondents (type) | Respondents (number) | Number of responses per respondent | Average burden per response (in hrs.) | Total burden (in hrs.)
Obstetricians | 600 | 1 | 30/60 | 300
Total | 600 |  |  | 300

Dated: December 7, 2005.
Joan F. Karr,
Acting Reports Clearance Officer, Centers for Disease Control and Prevention.

[FR Doc. E5-7260 Filed 12-12-05; 8:45 am]

BILLING CODE 4163-18-P